DEPARTMENT OF COMMERCE

[I.D. 080701A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Western Alaska Community Development Quota Program.

Form Number(s): None.

OMB Approval Number: 0648-0269.

Type of Request: Regular submission.

Burden Hours: 3,746.

Number of Respondents: 85.

Average Hours Per Response: 520 hours for a Community Development Program (CDP) proposal, 40 hours for an annual CDP report, 20 hours for an annual CDP budget report, 8 hours for an annual CDP budget reconciliation report, 8 hours for a substantial amendment to a CDP, 4 hours for a technical amendment to a CDP, 1 hour for a delivery report, 15 minutes for a catch report, 2 minutes for a prior notice to an observer of delivery/offloading or of an incoming haul or set.

Needs and Uses: The Community Development Program allocates a portion of the quota for certain species in the Bering Sea and Aleutian Islands to Western Alaska communities so that these communities can start and support regionally-based commercial seafood or other fisheries-related businesses. NOAA needs to collect information to administer and manage the program. The information collected will be used to determine whether communities applying for allocations under the Program meet regulatory requirements, whether vessels and processors utilizing Community Development Program Quota species meet operational requirements, and to monitor whether quotas have been harvested or exceeded.

Affected Public: Not-for-profit institutions, business or other for-profit organizations.

Frequency: On occasion, weekly, annually.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 3, 2001.
Madeleine Clayton,
Departmental Paperwork Clearance Officer, Office of the Chief Information Officer.

[FR Doc. 01-20114 Filed 8-9-01; 8:45 am]

BILLING CODE 3510-22-S